FEDERAL ELECTION COMMISSION

Sunshine Act Meetings

AGENCY: Federal Election Commission.

DATE & TIME: Thursday, August 14, 2014 at 10:00 a.m.

PLACE: 999 E Street NW., Washington, DC (Ninth Floor).

STATUS: This meeting will be open to the public.

ITEMS TO BE DISCUSSED:

Correction and Approval of Minutes for July 23, 2014

Draft Advisory Opinion 2014-07: Crowdpac

Draft Advisory Opinion 2014-09: REED Marketing Consultants, Inc.

Draft Advisory Opinion 2014-10: Joan Farr for U.S. Senate

Audit Division Recommendation Memorandum on the Nebraska Democratic Party (Resubmission)

Future Meeting Dates

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2014-19082 Filed 8-7-14; 4:15 pm]

BILLING CODE 6715-01-P